DEPARTMENT OF HEALTH AND HUMAN SERVICES

National Institutes of Health

Submission for OMB Review; 30-Day Comment Request National Cancer Institute (NCI) a Generic Submission for Formative Research, Pretesting and Customer Satisfaction of NCI's Communication and Education Resources (NCI)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Ilene French, Branch Chief, Office of Communication and Public Liaison, National Cancer Institute, 9609 Medical Center Drive, Maryland, 20892 or call non-toll-free number (240) 276-7787 or Email your request, including your address to: nciocpl@mail.nih.gov.

SUPPLEMENTARY INFORMATION: This proposed information collection was previously published in the Federal Register on April 5, 2019, page 13670, (Vol 84, No. 66, Page 13670) and allowed 60 days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: A Generic Submission for Formative Research, Pretesting and Customer Satisfaction of NCI's Communication and Education Resources (NCI), 0925-0046, Expiration Date 07/31/2019, REVISION, National Cancer Institute (NCI), National Institutes of Health (NIH).

Need and Use of Information Collection: This information collection request is to approve the Generic Submission for Formative Research, Pretesting and Customer Satisfaction of NCI's Communication and Education Resources (NCI) for three years. As part of NCI's mandate from Congress to disseminate information on cancer research, detection, prevention, and treatment, the Institute develops a wide variety of messages and materials. Testing these messages and materials assesses their potential effectiveness in reaching and communicating with their intended audience while they are still in the developmental stage and can be revised. The formative research and pretesting process thus contributes to maximizing NCI's limited dollar resources for information dissemination and education. NCI also must ensure the relevance, utility, and appropriateness of the many educational programs and products that the Institute produces. Customer satisfaction studies help NCI identify modifications necessary to meet the needs of NCI's various target audiences. Since the previous submission, there have been 10 approved sub-studies (and 1 pending) with an approved request of 2,426 burden hours over 2.5 years. Approval is requested for the conduct of multiple studies annually using such methods as interviews, focus groups, and various types of surveys. The content, timing, and number of respondents to be included in each sub-study will vary, depending on the nature of the message/material/program being assessed, the methodology selected, and the target audiences.

OMB approval is requested for 3 years. There are no costs to respondents other than their time. The total estimated annualized burden hours are 7,200.

Estimated Annualized Burden Hours
Form name | Type of respondents | Number of respondents | Number of responses per respondent | Average time per response (in hours) | Total annual burden hours
Focus Groups, Individual In-Depth Interviews, Brief Interviews, Surveys, Website Usability Testing | Individuals (General Public) | 18,000 | 1 | 12/60 | 3,600
Focus Groups, Individual In-Depth Interviews, Brief Interviews, Surveys, Website Usability Testing | Individuals (Health Care Professionals) | 18,000 | 1 | 12/60 | 3,600
Total |  | 36,000 | 36,000 |  | 7,200

Patricia M. Busche,
Project Clearance Liaison, National Cancer Institute, National Institutes of Health.

[FR Doc. 2019-14071 Filed 7-1-19; 8:45 am]

BILLING CODE 4140-01-P